DEPARTMENT OF THE INTERIOR

Bureau of Ocean Energy Management, Regulation and Enforcement

30 CFR Part 250

[Docket ID: BOEM-2010-0076]

Oil and Gas and Sulphur Operations in the Outer Continental Shelf—Safety and Environmental Management Systems; Public Workshop

AGENCY: Bureau of Ocean Energy Management, Regulation and Enforcement (BOEMRE), Interior.

ACTION: Notice; public workshop.

SUMMARY: The Bureau of Ocean Energy Management, Regulation and Enforcement is announcing a workshop to discuss the new regulatory requirements for operators to develop and implement Safety and Environmental Management Systems (SEMS) for oil and gas and sulphur operations in the Outer Continental Shelf (OCS). This workshop is designed to provide an overview and background of the final rule, review and summarize responses to frequently asked questions, receive and respond to new questions pertaining to implementation, and describe BOEMRE audit methodologies for compliance reviews.

DATES: The workshop will be held on March 15, 2011, from 9 a.m. to 1 p.m.

ADDRESSES: The workshop will be held at the Hilton New Orleans Riverside, Two Poydras Street, New Orleans, Louisiana 70130.

FOR FURTHER INFORMATION CONTACT: Ms. Deborah O'Brien by phone at (703) 787-1579, or by e-mail at Deborah.O'Brien@boemre.gov.

SUPPLEMENTARY INFORMATION:

Subpart S Rulemaking

On October 15, 2010, BOEMRE published the Final Rule for 30 CFR 250, Subpart S—Safety and Environmental Management Systems, in the Federal Register (75 FR 63610). This Final Rule incorporates by reference, and makes mandatory, API RP 75, Third Edition, May 2004, reaffirmed May 2008.

This Final Rule became effective on November 15, 2010, and applies to all OCS oil and gas and sulphur operations and facilities under BOEMRE jurisdiction, including drilling, production, construction, well workover, well completion, well servicing, and DOI pipeline activities.

Workshop Structure

The primary intent of this workshop is to discuss the various elements necessary to implement a robust SEMS for OCS operations and how those elements may be assessed within an operator's management system. The workshop will consist of BOEMRE presentations describing and discussing 30 CFR 250, Subpart S, the background leading to the regulations, frequently asked questions, and audit methodologies for compliance measurement. BOEMRE also will address questions asked by the audience.

Registration

There is no registration fee for this workshop. However, to assess the number of participants, BOEMRE requests participants to register with Ms. Deborah O'Brien by phone at (703) 787-1579, or by e-mail at Deborah.O'Brien@boemre.gov, prior to the meeting. The deadline to register is 1 week before the workshop on March 8, 2011. Given the maximum capacity of the meeting room, seating is limited to 500. BOEMRE will make its presentation available via Web site at http://www.boemre.gov/semp/.

BOEMRE will consider any questions submitted in advance so that the workshop can focus on key topics. Please submit questions to Ms. Deborah O'Brien in writing at Deborah.O'Brien@boemre.gov by March 8, 2011.

Paperwork Reduction Act of 1995 (PRA) Statement

This Federal Register document does not refer to or impose any information collection requirement subject to the Paperwork Reduction Act (44 U.S.C. 3501 et seq.)

Dated: February 8, 2011.
L. Renee Orr,
Acting Associate Director for Offshore Energy and Minerals Management.

[FR Doc. 2011-4334 Filed 2-28-11; 8:45 am]

BILLING CODE 4310-MR- P